ENVIRONMENTAL PROTECTION AGENCY

[EPA-HQ-OPP-2019-0045; FRL-9993-92]

Pesticide Product Registration; Receipt of New Use Applications in April 2019

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before July 8, 2019.

ADDRESSES: Submit your comments, identified by the Docket Identification (ID) number and the File Symbol or EPA Registration Number for the application of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA Registration Numbers: 100-739, 100-1262, and 100-1602. Docket ID number: EPA-HQ-OPP-2018-0718. Applicant: Syngenta Crop Protection, LLC, P.O. Box 18300, Greensboro, NC 27419. Active ingredient: Difenoconazole. Product type: Fungicide. Proposed use: Vegetable, leaves of root and tuber, group 2; and vegetable, root, subgroup 1A. Contact: RD.

2. EPA Registration Numbers: 264-776 and 264-1055. Docket ID number: EPA-HQ-OPP-2019-0130. Applicant: Bayer CropScience, 2 T.W. Alexander Drive, P.O. Box 12014, Research Triangle Park, NC 27709. Active ingredient: Trifloxystrobin. Product type: Fungicide. Proposed use: Dried shelled pea and bean (except soybean) Crop Subgroup 6C. Contact: RD.

3. EPA Registration Numbers: 35935-7, 61272-3, and 71368-1. Docket ID number: EPA-HQ-OPP-2019-0233. Applicant: Nufarm Limited, 4020 Aerial Center Pkwy., Ste. 103, Morrisville, NC 27560. Active ingredient: 2,4-D. Product type: Herbicide. Proposed use: Intermediate wheatgrass and inadvertent residues on sesame seed. Contact: RD.

4. File Symbols: 33753-GA, 33753-GT, 90924-RG, and 90924-RL. Docket ID number: EPA-HQ-OPP-2019-0200. Applicants: BASF Corporation, 100 Park Ave., Florham Park, NJ 07932; and NALCO Champion, an Ecolab Company, 11177 S Stadium Dr., Sugar Land, TX 77478. Active ingredient: Formic acid. Product type: Antimicrobial. Proposed use: Industrial Process and Water Systems including Oil Fields, Gas Production, Transmission Pipelines, and Flood/Injection Water. Contact: BPPD.

5. EPA Registration Number: 66222-117. Docket ID number: EPA-HQ-OPP-2018-0094. Applicant: Makhteshim Agan of North America, Incorporated, 3120 Highwoods Boulevard, Suite 100, Raleigh, NC 27604. Active ingredient: Tebuconazole. Product type: Fungicide. Proposed use: Cottonseed subgroup 20C; leafy brassica greens subgroup 4-16B; sunflower subgroup 20B; tomato (greenhouse); tree nut 14-12; tropical and subtropical, small fruit, inedible peel, subgroup 24A; and watercress. Contact: RD.

6. EPA Registration Number: 66222-128. Docket ID number: EPA-HQ-OPP-2018-0094. Applicant: Makhteshim Agan of North America, Incorporated, 3120 Highwoods Boulevard, Suite 100, Raleigh, NC 27604. Active ingredient: Tebuconazole. Product type: Fungicide. Proposed use: Small fruit vine climbing except fuzzy kiwifruit, subgroup 13-07F. Contact: RD.

7. EPA Registration Numbers: 62719-20, 62719-62719-21, 62719-657, 62719-684, and 62719-692. Docket ID number: EPA-HQ-OPP-2019-0232. Applicant: Dow AgroSciences LLC, 9330 Zionsville Road, Indianapolis, IN 46268. Active ingredient: Nitrapyrin. Product type: Herbicide. Proposed use: Canola, seed; canola, meal; vegetable, tuberous and corm, subgroup; potato, processed potato waste; beet, sugar, roots; beet, sugar, tops; and beet, sugar, molasses. Contact: RD.

8. EPA Registration Number: 74054-4. Docket ID number: EPA-HQ-OPP-2018-0094. Applicant: Makhteshim Agan of North America, Incorporated, 3120 Highwoods Boulevard, Suite 100, Raleigh, NC 27604. Active ingredient: Tebuconazole. Product type: Fungicide. Proposed use: Cottonseed subgroup 20C; leafy brassica greens subgroup 4-16B; pome fruit crop group 11-10; small fruit vine climbing except fuzzy kiwifruit, subgroup 13-07F; stone fruit crop group 12-12 except cherry; sunflower subgroup 20B; tomato (greenhouse); tree nut 14-12; tropical and subtropical, small fruit, inedible peel, subgroup 24A; and watercress. Contact: RD.

9. EPA Registration Number: 86203-1 and 86203-26. Docket ID number: EPA-HQ-OPP-2019-0170. Applicant: Mitsui Chemicals Agro, Incorporated, c/o Landis International, Inc, P.O. Box 5126, Valdosta, GA 31603. Active ingredient: Penthiopyrad. Product type: Fungicide. Proposed use: Cotton seed treatment. Contact: RD.

10. EPA Registration Numbers: 88664-1 and 88664-2. Docket ID number: EPA-HQ-OPP-2014-0330. Applicant: FuturEco Bioscience, S.A., Avda. Del Cadi 19-23, Pol. Ind. Sant Pere Molanta, 08799 Olerdola, Barcelona, Spain (c/o Technology Sciences Group, Inc., 1150 18th St. NW, Suite 1000, Washington, DC 20036). Active ingredient: Isaria fumosorosea strain FE 9901. Product type: Insecticide. Proposed use: Field (Outdoor), Commercial Livestock, and Residential. Contact: BPPD.

11. File Symbol: 94413-R. Docket ID number: EPA-HQ-OPP-2019-0247. Applicant: Vita Bee Health Limited, 1 Castlewood Ave., Rathmines, Dublin 6, 006 H685 Ireland (c/o OMC Ag Consulting, Inc., 828 Tanglewood Lane, East Lansing, MI 48823). Active ingredient: Bacillus thuringiensis subsp. aizawai strain ABTS-1857 fermentation solids, spores, and insecticidal toxins. Product type: Larvicide. Proposed use: For the prevention and control of wax moth (Galleria mellonella) infestation in bee hives maintained by commercial or hobbyist beekeepers. Contact: BPPD.

Authority: 7 U.S.C. 136 et seq.

Dated: May 16, 2019.
Delores Barber,
Director, Information Technology and Resources Management Division, Office of Pesticide Programs.

[FR Doc. 2019-11929 Filed 6-6-19; 8:45 am]

BILLING CODE 6560-50-P